DEPARTMENT OF HEALTH AND HUMAN SERVICES

[Document Identifier: OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Evaluation of the Parents Speak Up National Campaign (PSUNC): Parent Web site Survey. OMB No. 0990-NEW—Office of Public Health and Science, Office of Population Affairs, Office of Adolescent Pregnancy Programs.

Abstract: An on-line survey will take place in Fall 2009. The respondents will be 800 parents of children ages 10-14 drawn from an established online survey panel whose parental status and age of children are known. The survey will take 30 minutes which includes time spent visiting a Web site. Parents will self-administer the questionnaire at home on personal computers. The specific aim of this study is to determine the usefulness of the content and Web site features of the 4parents.gov Web site by measuring parents' attitudes to, reactions to, and receptivity to the Web site and to specific sections of it. One hundred mothers of each of four groups of children: boys 10-12 and 13-14, and girls 10-12 and 13-14 (for a total of 400 mothers), and 100 fathers of the same four groups of children (for a total of 400 fathers).

Estimated Annualized Burden Table
Forms | Type of respondent | Number of respondents | Number of responses per respondent | Average burden hours per response | Total burden hours
Fall 2009 Parent Web site Survey | Mothers of children ages 10-14 | 400 | 1 | 30/60 | 200
Fall 2009 Parent Web site Survey | Fathers of children ages 10-14 | 400 | 1 | 30/60 | 200
Total |  |  |  |  | 400

Seleda Perryman,
Paperwork Reduction Act Reports Clearance Officer, Office of the Secretary.

[FR Doc. E9-16381 Filed 7-9-09; 8:45 am]

BILLING CODE 4150-30-P